ENVIRONMENTAL PROTECTION AGENCY

40 CFR Part 300

[FRL-8210-9]

National Oil and Hazardous Substance Pollution Contingency Plan National Priorities List; Technical Correction

AGENCY: Environmental Protection Agency (EPA).

ACTION: Technical Correction of final partial deletion of the South Andover Salvage Yards Superfund Site from the National Priorities List.

SUMMARY: On September 15, 1998 (63 FR 49321), EPA published a “Notice of intent to delete Operable Unit 2 of the South Andover Salvage Yards site from the National Priorities List; request for comments,” and on October 28, 1998 (63 FR 57608), a “Final Rule; notice of deletion for Operable Unit 2 of the South Andover Salvage Yards Superfund Site from the National Priorities List (NPL).” The EPA is publishing this Technical Correction to the October 28, 1998 final notice of deletion due to errors that were published in that notice and in the National Priorities List at 40 CFR part 300, Appendix B. After review of the final notice of deletion and the National Priorities List, EPA is publishing this Technical Correction today to change the word “removing” in the October 28, 1998 final notice of deletion to the word “revising” and to amend 40 CFR part 300, Appendix B by adding the South Andover Site, Andover, Minnesota, and inserting a “P” in the Notes (a) column for the South Andover Site, Andover, Minnesota. EPA will place a copy of the final partial deletion package in the site repositories.

DATES: Effective Date: This Technical Correction of the direct final action is effective as of August 18, 2006.

ADDRESSES: Comprehensive information on the Site, as well as the comments that were received during the comment period are available at: Don deBlasio, Community Involvement Coordinator, U.S. EPA , P19J, 77 W. Jackson, Chicago, IL, (312) 886-4360 or 1-800-621-8431.

FOR FURTHER INFORMATION CONTACT: Gladys Beard, State NPL Deletion Process Manager, U.S. EPA (SR-6J), 77 W. Jackson, Chicago, IL 60604, (312) 886-7253 or 1-800-621-8431.

SUPPLEMENTARY INFORMATION: Information Repositories: Repositories have been established to provide detailed information concerning this decision at the following address: U.S. EPA Region V Library, 77 W. Jackson, Chicago, IL 60604, (312) 353-5821, Monday through Friday 8 a.m. to 4 p.m.; Andover City Hall, 1685 N. W. Crosstown Blvd., Andover, MN 55303.

List of Subjects in 40 CFR Part 300

Environmental protection, Air pollution control, Chemicals, Hazardous substances, Hazardous waste, Intergovernmental relations, Penalties, Reporting and recordkeeping requirements, Superfund, Water pollution control, Water supply.

Dated: August 9, 2006.
Norman Niedergang,
Acting Regional Administrator, EPA Region V.

For the reasons stated in the preamble, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923, 3 CFR, 1987 Comp., p. 193.

2. Table 1 of Appendix B to part 300 is amended under Minnesota “MN” by adding the entry for “South Andover” to read as follows:

Appendix B to Part 300—National Priorities List

Table 1.—General Superfund Section
State | Sitename | City/County | (Notes) ᵃ
* * * * * * *
MN | South Andover Site | Andover | P
* * * * * * *
ᵃ* * *
P=Sites with partial deletion(s).

* * * * *

[FR Doc. E6-13611 Filed 8-17-06; 8:45 am]

BILLING CODE 6560-50-P